DEPARTMENT OF HOMELAND SECURITY

[Docket No. DHS-2012-0055]

Homeland Security Advisory Council

AGENCY: The Office of Policy, DHS.

ACTION: Notice of partially closed Federal Advisory Committee meeting.

SUMMARY: The Homeland Security Advisory Council (HSAC) will meet in person and members of the public may participate by conference call on September 25, 2012. The two-day meeting will be partially closed to the public.

DATES: The HSAC will meet on Monday, September 24, 2012, from 1 p.m. to 4:45 p.m. EDT. This portion of the meeting will be closed. On Tuesday, September 25, 2012, the HSAC will meet from 8 a.m. to 9:45 a.m. in closed session. The meeting will be open to the public from 10 a.m. to 11:15 a.m. and then meet in closed session from 11:15 a.m. to 12:45 p.m.

ADDRESSES: Written comments must be submitted and received by September 21, 2012. Comments must be identified by Docket No. DHS-2012-0055 and may be submitted by one of the following methods:

• Federal eRulemaking Portal: http://www.regulations.gov. Follow the instructions for submitting comments.

• Email: HSAC@dhs.gov. Include docket number in the subject line of the message.

• Fax: (202) 282-9207.

• Mail: Homeland Security Advisory Council, Department of Homeland Security, Mailstop 0450, 245 Murray Lane SW., Washington, DC 20528.

Instructions: All submissions received must include the words “Department of Homeland Security” and DHS-2012-0055, the docket number for this action. Comments received will be posted without alteration at http://www.regulations.gov, including any personal information provided.

Docket: For access to the docket to read background documents or comments received by the DHS Homeland Security Advisory Council, go to http://www.regulations.gov.

FOR FURTHER INFORMATION CONTACT: Becca Sharp, Executive Director, at hsac@dhs.gov or 202-447-3135.

SUPPLEMENTARY INFORMATION: Notice of this meeting is given under the Federal Advisory Committee Act, 5 U.S.C. App.

The HSAC provides organizationally independent, strategic, timely, specific and actionable advice and recommendations for the consideration of the Secretary of the Department of Homeland Security on matters related to homeland security. The Council is comprised of leaders of local law enforcement, first responders, state and local government, the private sector, and academia.

The HSAC will meet in open session on Tuesday, September 25, 2012, from 10 a.m. to 11:15 a.m. to receive a briefing from the Chief of Staff of the U.S. Citizenship and Immigration Service on its deferred action for the childhood arrivals program. The HSAC will also receive a report from the Sustainability and Efficiency Task Force, review and discuss the task forces' report, and formulate recommendations for the Department.

The HSAC will meet in closed session on Monday, September 24 from 1 p.m. to 4:45 p.m. and Tuesday, September 25 from 8 a.m. to 9:45 a.m., and from 11:15 a.m. to 12:45 p.m. In the closed sessions, the HSAC will receive sensitive operational briefings and updates from senior DHS leadership on the following issues: The strategic implementation plan to counter violent extremism domestically; the current threat environment; evolving threats in cyber security; Transportation Security Administration operations; DHS transition planning; and U.S. Coast Guard counterterrorism efforts around the world.

Basis for Partial-Closure: In accordance with Section 10(d) of the Federal Advisory Committee Act, it has been determined that the meeting requires closure as the disclosure of the information would not be in the public interest.

The HSAC will receive briefings on domestic and international threats to the homeland from DHS Intelligence and Analysis and other senior leadership, and a briefing on the Transportation Security Administration's (TSA) airport security program that will include lessons learned, and screening techniques associated with airport security. Specifically, there will be material presented regarding the latest viable threats against the United States, and how DHS and other Federal agencies plan to address those threats. Under 5 U.S.C. 552b(c)(7)(E), disclosure of that information could reveal investigative techniques and procedures not generally available to the public, allowing those with interests against the United States to circumvent the law. Additionally, under 5 U.S.C. 552b(c)(9)(B), disclosure of these techniques and procedures could frustrate the successful implementation of protective measures designed to keep our country safe.

Members will also be provided a briefing from the U.S. Coast Guard on counterterrorism efforts being made around the world, operational overview of the Department's transition planning efforts focused on national security, and the current strategic implementation plan of the Counter Violent Extremism Domestically. Providing this information to the public would provide terrorists with a road map regarding the Department's plan to counter their actions, and thus, allow them to take different actions to avoid counterterrorism efforts. Under 5 U.S.C. 552b(c)(9)(B), disclosure of this plan could frustrate the successful implementation of measures designed to counter terrorist acts and likely to significantly frustrate implementation of a proposed agency action. Lastly, members will receive a briefing on evolving threats in cyber security. This will include lessons learned and potential vulnerabilities of infrastructure assets, as well as potential methods to improve the Federal response to a cyber attack. Disclosure of this information would be a road map to those who wish to attack our infrastructure, and hence, would certainly frustrate the successful implementation of preventive and counter measures to protect our cyber and physical infrastructure. Therefore, this portion of the meeting is required to be closed under U.S.C. 552b(c)(9)(B).

Public Participation: Members of the public will be in listen-only mode. The public may register to listen in on this HSAC meeting via conference call using the afore-mentioned procedures. Each individual must provide his or her full legal name, email address and phone number no later than 5 p.m. EDT on September 20, 2012, to a staff member of the HSAC via email at HSAC@dhs.gov or via phone at (202) 447-3135. HSAC conference call details and the Sustainability and Efficiency Task Force report will be provided to interested members of the public at the time they register and at their request.

Identification of Services for Individuals with Disabilities: For information on facilities or services for individuals with disabilities, or to request special assistance at the meeting, contact the HSAC as soon as possible.

Dated: September 4, 2012.
Becca Sharp,
Executive Director, Homeland Security Advisory Council, DHS.

[FR Doc. 2012-22065 Filed 9-6-12; 8:45 am]

BILLING CODE 9910-9M-P